DEPARTMENT OF HEALTH AND HUMAN SERVICES

Centers for Disease Control and Prevention

[60Day-16-16AVM; Docket No. CDC-2016-0065]

Proposed Data Collection Submitted for Public Comment and Recommendations

AGENCY: Centers for Disease Control and Prevention (CDC), Department of Health and Human Services (HHS).

ACTION: Notice with comment period; Withdrawal.

SUMMARY: The Centers for Disease Control and Prevention (CDC) in the Department of Health and Human Services (HHS) announces the withdrawal of the notice published under the same title on July 26, 2016 for public comment.

DATES: Effective August 9, 2016.

FOR FURTHER INFORMATION CONTACT: Information Collection Review Office, Centers for Disease Control and Prevention, 1600 Clifton Road NE., MS-D74, Atlanta, Georgia 30329; phone: 404-639-7570; Email: omb@cdc.gov.

SUPPLEMENTARY INFORMATION: On July 26, 2016 CDC published a notice in the Federal Register titled “Proposed Data Collection Submitted for Public Comment and Recommendations” (81 FR 48799). This notice with Federal Register Document 2016-17601 and Docket number CDC-2016-0065, was published prematurely and inadvertently. The notice is being withdrawn immediately for public comment. A new notice will be published at a later date for public comment.

Jeffrey M. Zirger,
Acting Chief, Information Collection Review Office, Health Scientist, Office of Scientific Integrity, Office of the Associate Director for Science, Office of the Director, Centers for Disease Control and Prevention.

[FR Doc. 2016-18866 Filed 8-8-16; 8:45 am]

BILLING CODE 4163-18-P